DEPARTMENT OF JUSTICE

Antitrust Division

Notice Pursuant to the National Cooperative Research and Production Act of 1993—Border Security Technology Consortium

Notice is hereby given that, on May 2, 2018, pursuant to Section 6(a) of the National Cooperative Research and Production Act of 1993, 15 U.S.C. 4301 et seq. (“the Act”), Border Security Technology Consortium (“BSTC”) has filed written notifications simultaneously with the Attorney General and the Federal Trade Commission disclosing changes in its membership. The notifications were filed for the purpose of extending the Act's provisions limiting the recovery of antitrust plaintiffs to actual damages under specified circumstances. Specifically, Adelos, Inc., Polson, MT; Astrophysics, Inc., City of Industry, CA; Asymmetric Technologies, LLC, Columbus, OH; Belcan-Government Services, LLC, Arlington, VA; Cobham Advanced Electronic Solutions Inc., Lansdale, PA; Copious Imaging LLC, Lexington, MA; Eikon Corporation, Andover, MA; Epigen Technology Corporation, Mclean, VA; Fairlead Integrated, Portsmouth, VA; Fortem Technologies, Inc., Pleasant Grove, UT; Intel Corporation, Santa Clara, CA; Keysight Technologies, Inc., Santa Rosa, CA; Kratos Defense & Rocket Support Services, Inc., Huntsville, AL; Motorola Solutions, Inc., Linthicum Heights, MD; Neos Diamant, LLC, Manassas, VA; nMeta LLC, New Orleans, LA; Rigaku Analytical Devices, Inc., Wilmington, DE; Shipcom Wireless Inc., Houston, TX; TKK Electronics, LLC, Milwaukee, WI; TriaSys Technologies Corporation, N. Billerica, MA; and Vencore Labs dba Applied Communication Sciences, Basking Ridge, NJ, have been added as parties to this venture.

Also, General Robotics, Van Nuys, CA; Rajant, Malvern, PA; Aerostar International, Inc., Sioux Falls, SD; Vista Research, Arlington, VA; Stark Aerospace, Arlington, VA; and PRO Barrier Engineering LLC, Middletown, PA, have withdrawn as parties to this venture.

No other changes have been made in either the membership or planned activity of the group research project. Membership in this group research project remains open, and BSTC intends to file additional written notifications disclosing all changes in membership.

On May 30, 2012, BSTC filed its original notification pursuant to Section 6(a) of the Act. The Department of Justice published a notice in the Federal Register pursuant to Section 6(b) of the Act on June 18, 2012 (77 FR 36292).

The last notification was filed with the Department on September 22, 2017. A notice was published in the Federal Register pursuant to section 6(b) of the Act on October 17, 2017 (82 FR 48267).

Patricia A. Brink,
Director of Civil Enforcement, Antitrust Division.

[FR Doc. 2018-13062 Filed 6-18-18; 8:45 am]

BILLING CODE 4410-11-P